SECURITIES AND EXCHANGE COMMISSION

[Release 34-44089A; File No. 600-22]

Self-Regulatory Organizations; MBS Clearing Corporation; Notice of Filing and Order Approving a Request for an Extension of Temporary Registration as a Clearing Agency

April 5, 2001.

Correction

In FR Document No. 01-7596, beginning on page 16961, in the issue of Wednesday, March 28, 2001, words were omitted from the first and second sentences of the last paragraph beginning on page 16961. These sentences should read as follows: “Interested persons are invited to submit written data, views, and arguments concerning the foregoing application. Such written data, views, and arguments will be considered by the Commission in granting registration or instituting proceedings to determine whether registration should be denied in accordance with section 19(a)(1) of the Act,” ⁷

⁷ 15 U.S.C. 78s(a)(1).

For the Commission, by the Division of Market Regulation, pursuant to delegated authority.
Margaret H. McFarland,
Deputy Secretary.

[FR Doc. 01-9146 Filed 4-12-01; 8:45 am]

BILLING CODE 8010-01-M